DEPARTMENT OF LABOR

Mine Safety and Health Administration

Petitions for Modification

The following parties have filed petitions to modify the application of existing safety standards under section 101(c) of the Federal Mine Safety and Health Act of 1977.

1. Jim Walter Resources, Inc.

[Docket No. M-2003-054-C]

Jim Walter Resources, Inc., P.O. Box 133, Brookwood, Alabama 35444 has filed a petition to modify the application of 30 CFR 75.503 (Permissible electric face equipment; maintenance) to its No. 4 Mine (MSHA I.D. No. 01-01247) located in Tuscaloosa County, Alabama. The petitioner requests a modification of the existing standard to allow use of extended length cables on underground coal mining equipment. The petitioner proposes to use the extended length cable to power 2,400-volt continuous mining machines. The petitioner has listed in this petition for modification specific terms and conditions that would be followed when its proposed alternative method is implemented. The petitioner asserts that the proposed alternative method would provide at least the same measure of protection as the existing standard.

2. Jim Walter Resources, Inc.

[Docket No. M-2003-055-C]

Jim Walter Resources, Inc., P.O. Box 133, Brookwood, Alabama 35444 has filed a petition to modify the application of 30 CFR 75.1002 (Location of trolley wires, trolley feeder wires, high-voltage cables and transformers) to its No. 4 Mine (MSHA I.D. No. 01-01247) located in Tuscaloosa County, Alabama. The petitioner proposes to use 2,400-volt high-voltage trailing cable to power a continuous miner inby the last open crosscut and within 150 feet of pillar workings. The petitioner has listed in this petition for modification specific terms and conditions that would be followed when its proposed alternative method is implemented. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2352, Arlington, Virginia 22209. All comments must be postmarked or received in that office on or before September 11, 2003. Copies of these petitions are available for inspection at that address.

Dated at Arlington, Virginia this 5th day of August 2003.
Marvin W. Nichols, Jr.,
Director, Office of Standards, Regulations, and Variances.

[FR Doc. 03-20438 Filed 8-11-03; 8:45 am]

BILLING CODE 4510-43-P